FEDERAL COMMUNICATIONS COMMISSION

[FR ID 20803]

Consumer Advisory Committee; Announcement of Meeting

AGENCY: Federal Communications Commission.

ACTION: Notice.

SUMMARY: In this document, the Commission announces and provides an agenda for the first meeting of the twelfth term of its Consumer Advisory Committee (CAC or Committee).

DATES: Thursday, April 4, 2024, from 10 a.m. to 3:30 p.m. EDT.

ADDRESSES: The CAC meeting will be held in person. The public may attend at FCC Headquarters, Commission Meeting Room, 45 L Street NE, Washington, DC 20554. The meeting will also be available to the public for viewing via the internet at www.fcc.gov/live.

FOR FURTHER INFORMATION CONTACT: Cara Grayer, Designated Federal Officer, Federal Communications Commission, Consumer and Governmental Affairs Bureau, (202) 418-2960, or email: Cara.Grayer@fcc.gov, or Diana Coho, Deputy Designated Federal Officer, (717) 338-2848, or email: Diana.Coho@fcc.gov. More information about the CAC is available at https://www.fcc.gov/consumer-advisory-committee.

SUPPLEMENTARY INFORMATION: This meeting is open to members of the general public. The meeting will be webcast with sign language interpreters and open captioning at: www.fcc.gov/live. In addition, a reserved amount of time will be available on the agenda for comments and inquiries from the public. Members of the public may comment or ask questions of presenters via livequestions@fcc.gov.

Requests for other reasonable accommodations or for materials in accessible formats for people with disabilities should be submitted via email to: fcc504@fcc.gov or by calling the Consumer and Governmental Affairs Bureau at (202) 418-0530. Such requests should include a detailed description of the accommodation needed and a way for the FCC to contact the requester if more information is needed to fill the request. Requests should be made as early as possible; last minute requests will be accepted but may not be possible to accommodate.

Proposed Agenda: At this meeting, the CAC is expected to receive briefings from Commission staff on issues of interest to the Committee and may discuss its proposed topic of interest to the Committee.

Federal Communications Commission.
Robert A. Garza,
Legal Advisor, Consumer and Government Affairs Bureau.

[FR Doc. 2024-05916 Filed 3-19-24; 8:45 am]

BILLING CODE 6712-01-P